DEPARTMENT OF HOUSING AND URBAN DEVELOPMENT

[Docket No. FR-5281-N-66]

Notice of Submission of Proposed Information Collection to OMB; Emergency Comment Request; Broadband Research Project

AGENCY: Office of Policy Development and Research, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: September 16, 2009.

ADDRESSES: Interested persons are invited to submit comments regarding this proposal. Comments must be received within fourteen (14) days from the date of this Notice. Comments should refer to the proposal by name and/or OMB approval number and should be sent to: Mr. Ross A. Rutledge, HUD Desk Officer, Office of Management and Budget, New Executive Office Building, Washington, DC 20502; e-mail: Ross_A._Rutledge@omb.eop.gov; fax: (202) 395-5806.

FOR FURTHER INFORMATION CONTACT: Lillian Deitzer, Reports Management Officer, QDAM, Department of Housing and Urban Development, 451 Seventh Street, SW., Washington, DC 20410; e-mail: Lillian.L.Deitzer@hud.gov; telephone (202) 402-8048. This is not a toll-free number. Copies of available documents should be submitted to OMB and may be obtained from Ms. Deitzer.

SUPPLEMENTARY INFORMATION: This Notice informs the public that the U.S. Department of Housing and Urban Development (HUD) has submitted to OMB, for emergency processing, a proposed information collection as part of planning for the National Broadband Plan ordered under the American Recovery and Reinvestment Act of 2009. The information will describe the availability and usage of broadband internet services in HUD-assisted housing and at Neighborhood Networks Centers. The respondents are Public Housing Authorities, Tribes and managers of multi-family and HOME Investment Partnerships Program properties as well as managers of Neighborhood Networks Centers. HUD will survey all PHAs, Indian Tribes and managers of Neighborhood Networks Centers and a 500-respondent sample for each of Multi-Family managers with e-mail address, Multi-Family managers without e-mail addresses and HOME managers.

For the Residential Broadband Survey, each respondent will be asked to voluntarily disclose whether broadband internet service is available in their project and approximately how many residents subscribe to that service. For the Neighborhood Networks Survey, each Center manager will be voluntarily asked to describe the programming offered at their Center as well as the number of users who utilize the Center. This data will help identify opportunities for HUD to invest in providing broadband service for residents.

This Notice Also Lists the Following Information

Title of Proposal: Broadband Research Project.

Description of Information Collection: This is a new information collection. The Department of Housing and Urban Development is seeking emergency review of the Paperwork Reduction Act Requirements associated with a broadband research project.

OMB Control Number: Pending.

Agency Form Numbers: None.

Members of the Affected Public: Public housing executive directors, managers of HUD-assisted housing projects and Neighborhood Networks Center managers.

Estimation of the total numbers of hours needed to prepare the information collection including number of responses, frequency of responses, and hours of responses: This is a one-time collection. Each respondent will need approximately 15 minutes to complete the questionnaire. There are 7,817 total respondents. The total reporting burden will be 1,563.4 hours.

Authority: The Paperwork Reduction Act of 1995, 44 U.S.C. Chapter 35, as amended.

Dated: September 3, 2009.
Lillian Deitzer,
Departmental Reports Management Officer, Office of the Chief Information Officer.

[FR Doc. E9-21729 Filed 9-8-09; 8:45 am]

BILLING CODE 4210-67-P